DEPARTMENT OF TRANSPORTATION

Federal Highway Administration

[U.S. DOT Docket No. FHWA-2009-0054]

Agency Information Collection Activities: Request for Comments for a New Information Collection, Titled: Reports, Forms and Recordkeeping Requirements

AGENCY: Federal Highway Administration, DOT.

ACTION: Request for comments.

SUMMARY: The FHWA invites public comments about our intention to request the Office of Management and Budget's (OMB) approval for a new information collection, which is summarized below under SUPPLEMENTARY INFORMATION. We published a Federal Register Notice with a 60-day public comment period on this information collection on February 26, 2009. We are required to publish this notice in the Federal Register by the Paperwork Reduction Act of 1995.

DATES: Please submit comments by June 19, 2009.

ADDRESSES: You may submit comments identified by Docket ID Number FHWA-2009-0054 by any of the following methods:

Web Site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue, SE., Washington, DC 20590-0001.

Hand Delivery or Courier: U.S. Department of Transportation, West Building Ground Floor, Room W12-140, 1200 New Jersey Avenue, SE., Washington, DC 20590, between 9 a.m. and 5 p.m. ET, Monday through Friday, except Federal holidays.

FOR FURTHER INFORMATION CONTACT: Thomas Granda, PhD, Team Leader, Human Centered Systems, Office of Safety Research and Development, HRDS-07, Turner-Fairbank Highway Research Center, Federal Highway Administration, 6300 Georgetown Pike, McLean, VA 22101, tel. 202-493-3365 between 8 a.m. and 5:30 p.m., Monday through Friday, except Federal holidays, or Paul J. Tremont, PhD (same address) at 202-493-3338.

SUPPLEMENTARY INFORMATION: Title: Reports, Forms and Recordkeeping Requirements.

The FHWA invites public comments on our intention to request the Office of Management and Budget (OMB) to approve a total of 30 field and laboratory research studies that will include collections of information from the general public. These studies will be conducted over a period not to exceed 3 years with an annual burden of approximately 1000 hours and a grand total burden of approximately 3000 hours. These collections are integral to the performance of various analytical, field, and laboratory human factors research projects that FHWA intends to conduct in support of its mission of improving safety and increasing mobility on our Nation's highways through National Leadership, Innovation, and Program Delivery.

The field and laboratory research FHWA conducts usually involves observations of driver behavior. In the field, these studies are often completely non-intrusive. However, some field research studies require that interview data be collected from individuals in the field. For example, if drivers are participating in a research study on a novel intersection, interview data might be acquired from a subset of drivers to determine what they observed while driving or how they made their decisions. In these cases the interview will be brief (10-15 minutes). The same procedure may be used with laboratory studies.

The vast majority of laboratory and field studies that FHWA conducts acquire data on human performance in controlled experimental settings. For example, FHWA may be interested in drivers' reactions to the visibility of signs of differing reflectivity.

Research Areas and Associated Collections

The FHWA Office of Safety Research and Development intends to conduct analytical, field, and laboratory research projects focused on highway safety that will require acquisition of data from small samples of the general public. This research is directed at human factors issues within the following broad program areas: (A) infrastructure design including innovative intersection configurations and signage and roadway markings; (B) highway operations; (C) intelligent transportation systems, including traffic management centers; (D) driver-vehicle and infrastructure-vehicle interfaces; (E) older and younger driver programs; and (F) pedestrian and bicyclist concerns. Given that the focus of the research in the above areas is on human factors issues, it will require that data be collected on a few key demographic variables such as age, gender, and driving experience. The data collected will not be linked to personal identifying information. Before any study is conducted under this approval request, a thorough review will be undertaken to ensure such data is not currently available, and that the proposed study does not duplicate other work.

Situations that Require Collections of Information—Examples from Each Category

Category A Infrastructure Design. An example from Category A would be a study designed to test an innovative intersection design such as a Diverging Diamond Interchange (DDI). This is a highly efficient intersection design, but if not properly implemented, it could potentially cause confusion. In a DDI, drivers cross over to the left side of the highway, with the result that opposing traffic is placed on their right side. When testing a DDI, FHWA will need to know whether drivers perceived any ambiguity in the signage, if they had any orientation problems seeing opposing traffic on their right, and if they have any suggestions for improving the overall ease with which such an intersection could be driven. Other innovative intersection designs would also benefit from similar information acquired from drivers. Roadway departure is another problem area that could benefit from individual driver data. For example, it would be helpful to know how drivers perceive their interaction with the infrastructure led to or prevented roadway design.

Category B Highway Operations. One of the many challenges confronting highway engineers is designing a signal system that maximizes throughput and minimizes delay. Excess delay can have the unintended consequence of encouraging drivers to run red lights. This problem can be examined by observing drivers' behavior under differing signaling conditions. However, direct verbal reports of drivers are often needed to determine why drivers are making their decisions. For example FHWA may learn from questioning drivers that they would be less likely to speed up when approaching a signal if they knew the signal system would recognize this behavior and respond accordingly. One way this might happen is by advising the motorist earlier of the impending signal change. Driver interviews performed under this study area can provide information on many key issues including behavioral adaptation, decision making, and reaction times to signal phases and changes. This kind of information could lead to improvements to signal controllers that increase mobility and improve safety. Speed management is another area that could benefit from interview data. For example, lower speed limits in construction zones are difficult to enforce, and interview data with drivers can provide information on better methods of restraining driver speeds in these hazardous situations.

Categories C and D (Intelligent Transportation Systems (ITS), including Driver-Vehicle and Driver-Infrastructure Interfaces and Traffic Management Centers). One ITS safety countermeasure being studied by FHWA is a system to protect the potential victim of a red light runner at a signalized intersection. ITS affords the capability, via wireless communication and advanced sensing technologies, to warn a driver if another driver is about to run a red light and a collision is imminent. This warning can be given in the car or from special signals placed in the infrastructure. FHWA is interested in determining how drivers respond to these new warnings that tell them to slow down or stop. Information acquired in interviews with drivers is needed to clarify their understanding of the purpose of various special signals, as well as aspects of their behavior not readily detectable, such as whether they checked their rear view mirror before braking, and whether they would have proceeded through the intersection had the signal not come on. Such information will assist FHWA in designing intelligent infrastructure systems to benefit highway safety and operations.

Category E (Older and Younger Drivers). The opinions of these two high risk groups are needed for almost all FHWA safety related studies. For example, data on the ease of use expressed by older drivers with respect to an innovative design informs the engineer which aspects of the new design present potential safety problems and may be in need of modification. In contrast, young drivers present a separate set of challenges for highway engineers. Their ability to negotiate a new design may be less of a concern, however; it is necessary to understand how these drivers regard the conflict points presented by new designs. This is of particular importance as some younger drivers may be willing to take extra risks in situations where ambiguity exists. Gathering verbal feedback from younger drivers will help engineers determine areas of potential ambiguity in design and modify these areas as necessary to ensure they are not introducing safety hazards.

Category F (Pedestrians and Bicyclists). Research related to pedestrians and bicyclists arises from the need to determine the most effective ways to accommodate these infrastructure users. While overt pedestrian and bicyclist behavior can be directly observed fairly easily, it is sometimes necessary to collect user opinions and reactions. For example, when a new intersection design is being introduced (e.g., a triple lane roundabout) it is especially advantageous to acquire data that provides insights into the needs and challenges that pedestrians and bicyclists face as they negotiate such an intersection. The needs of disabled pedestrians are also considered when researching new intersection treatments, and in these efforts FHWA works closely with the U.S. Access Board to ensure that novel intersection treatments accommodate their needs. Another example of research in this area is determining bicyclists' reactions to such treatments as separately marked bicycle lanes, signage, and overall roadway configuration.

Description of How Field and Laboratory Study Participants Will Be Acquired

Samples for research studies will be acquired by advertisement in local papers, by the distribution of flyers, or by postings to the internet. Typically, interested parties contact FHWA and they are asked a few questions to determine whether they qualify for the study. These questions involve such issues as age, driver familiarity with the location or scenario being used, number of miles driven per year, and gender.

Estimate of the Total Annual Reporting and Recordkeeping Burden Resulting From These Information Collections and Requests for Comments

Frequency: This approval request is for 30 studies over a 3-year period.

Individual Respondent Burden: FHWA estimates data acquisition from persons participating in research will average about 1 hour.

Estimated Total Annual Burden Hours: The maximum burden for any single field study with in-person interviewing will be (200*10)/60 or 33 hours. The maximum burden for any single research study (including a short interview of approximately 10 minutes) will be (200*60)/60 or 200 hours. The grand total of burden hours under this approval request is 3,000 hours (30 studies, at 1 hour per study). Since this burden will be over a three-year period, the total annual burden becomes 1,000 hours. Respondents will not incur any reporting or record keeping cost, or any record keeping burden as a result of these collections.

Public Comments Invited: You are asked to comment on any aspect of these information collections, including: (1) Whether the proposed collections are necessary for FHWA's performance; (2) the accuracy of the estimated burden; (3) ways for FHWA to enhance the quality, usefulness, and clarity of the collected information; and (4) ways that the burden could be minimized, including the use of electronic technology, without reducing the quality of the collected information. FHWA will respond to your comments and summarize or include them when requesting clearance from OMB for these information data collections.

Authority: The Paperwork Reduction Act of 1995; 44 U.S.C. Chapter 35, as amended; and 49 CFR 1.48.

Issued on May 14, 2009.
James R. Kabel,
Chief, Management Programs and Analysis Division.

[FR Doc. E9-11726 Filed 5-19-09; 8:45 am]

BILLING CODE P